DEPARTMENT OF THE INTERIOR

Bureau of Land Management

[CA-650-1430-01; CALA014410]

Road Closure

AGENCY: Bureau of Land Management, Interior.

ACTION: Road closure.

SUMMARY: Temporary Closure of Road to ensure public safety and continued reliability of the First Los Angeles Aqueduct until the required emergency maintenance and rehabilitation of the Aqueduct is completed.

EFFECTIVE DATE: October 20, 2000.

FOR FURTHER INFORMATION CONTACT: Peter Graves, Ridgecrest Field Office, BLM, 300 South Richmond Road, Ridgecrest, CA 93555, (760) 384-5429.

SUPPLEMENTARY INFORMATION: The Bureau of Land Management, Ridgecrest Field Office hereby announces that the road between Grapevine Canyon and Sand Canyon will be temporarily closed effective October 9, 2000 to July 31, 2001. This action is taken pursuant to Title 43 Code of Federal Regulations part 8364. The reason for the closure is to ensure public safety and the continued reliability of the First Los Angeles Aqueduct until the Los Angeles Department of Water & Power (LADWP) completes emergency repairs and rehabilitation to the Aqueduct. Access on the subject road is prohibited without the express written consent of LADWP. Access across the road may be arranged by calling Robert Chaney of LADWP at (661)-824-7901. For more information, contact Peter G. Graves, Resource Management Specialist, at (760) 384-5429.

Dated: October 5, 2000.
Hector A. Villalobos,
Field Office Manager.

[FR Doc. 00-27026 Filed 10-19-00; 8:45 am]

BILLING CODE 4310-40-P